DEPARTMENT OF ENERGY

Federal Energy Regulatory Commission

Combined Notice of Filings

Take notice that the Commission has received the following Natural Gas Pipeline Rate and Refund Report filings:

Filings Instituting Proceedings

Docket Numbers: RP15-1262-000.

Applicants: MIGC LLC.

Description: Section 4(d) Rate Filing: MIGC Interim Fuel Filing to be effective 10/1/2015.

Filed Date: 9/10/15.

Accession Number: 20150910-5093.

Comments Due: 5 p.m. ET 9/17/15.

Docket Numbers: RP15-1263-000.

Applicants: Union Power Partners, L.P., Entergy New Orleans, Inc.

Description: Joint Petition for Limited Waiver and Request for Expedited Action of Union Power Partners, L.P. and Entergy New Orleans, Inc. under RP15-1263.

Filed Date: 9/10/15.

Accession Number: 20150910-5156.

Comments Due: 5 p.m. ET 9/22/15.

Docket Numbers: RP15-1264-000.

Applicants: Southern Natural Gas Company, L.L.C.

Description: Section 4(d) Rate Filing: Negotiated Rate Filing—Mansfield to be effective 11/1/2015.

Filed Date: 9/11/15.

Accession Number: 20150911-5032.

Comments Due: 5 p.m. ET 9/23/15.

Docket Numbers: RP15-1265-000.

Applicants: Central New York Oil And Gas, L.L.C.

Description: Section 4(d) Rate Filing: Central New York Oil And Gas Co., L.L.C.—Filing of Negotiated Rate Agreement to be effective 10/15/2015.

Filed Date: 9/11/15.

Accession Number: 20150911-5125.

Comments Due: 5 p.m. ET 9/23/15.

Docket Numbers: RP15-1266-000.

Applicants: Tennessee Gas Pipeline Company, L.L.C.

Description: Section 4(d) Rate Filing: Volume No. 2—Neg. Rate Agrmts with Noble Americas Gas et al. to be effective 11/1/2015.

Filed Date: 9/11/15.

Accession Number: 20150911-5141.

Comments Due: 5 p.m. ET 9/23/15.

Docket Numbers: RP15-1267-000.

Applicants: Gulf South Pipeline Company, LP.

Description: Section 4(d) Rate Filing: Cap Rel Neg Rate Agmt (Atlanta 8438 to various eff 9-1-15) to be effective 9/1/2015.

Filed Date: 9/14/15.

Accession Number: 20150914-5043.

Comments Due: 5 p.m. ET 9/28/15.

Docket Numbers: RP15-1268-000.

Applicants: Texas Eastern Transmission, LP.

Description: Section 4(d) Rate Filing: Non-conforming Agreement NJRES Contract 911296 to be effective 10/1/2015.

Filed Date: 9/14/15.

Accession Number: 20150914-5081.

Comments Due: 5 p.m. ET 9/28/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 14, 2015.
Nathaniel J. Davis, Sr.,
Deputy Secretary.

[FR Doc. 2015-23531 Filed 9-18-15; 8:45 am]

BILLING CODE 6717-01-P